DEPARTMENT OF DEFENSE

Department of the Air Force

[Docket ID USAF-2008-0039]

Privacy Act of 1974; System of Records

AGENCY: Department of the Air Force, DoD.

ACTION: Notice to Alter a System of Records.

SUMMARY: The Department of the Air Force proposes to alter a system of records to its inventory of record systems subject to the Privacy Act of 1974 (5 U.S.C. 552a), as amended.

DATES: The proposed action will be effective on January 2, 2009 unless comments are received that would result in a contrary determination.

ADDRESSES: Send comments to the Air Force Privacy Act Officer, Office of Warfighting Integration and Chief Information Officer, SAF/XCX, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 27, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: November 25, 2008.
Morgan E. Frazier,
Alternate OSD Federal Register Liaison Officer, Department of Defense.

F090 AF IG B

System name:

Inspector General Records (July 26, 2004, 69 FR 44515).

Changes:

* * * * *

Categories of individuals covered by the system:

Delete entry and replace with “All persons (civilian, military, contractors, and/or members of the public) who have registered a complaint, allegation, or query with the Air Force Inspector General. Individuals who are or have been subjects of reviews, inquiries, or investigations.”

* * * * *

Categories of records in the system:

Delete entry and replace with “Individual's name, Social Security Number (SSN), address, phone number, reports of investigations, statements of individuals, correspondence, and other information collected during investigation of and pertaining to complaints made to or investigated by the Air Force Inspector General.”

* * * * *

Purpose(s):

Delete entry and replace with “Information is used to ensure just, thorough and timely resolution; to respond to complaints, allegations or queries; and to improve morale, welfare, and efficiency of organizations, units, and personnel by providing an outlet for redress. Records may indicate where commander involvement is needed to correct systemic, programmatic, or procedural weakness and ensures resources are used effectively and efficiently”.

* * * * *

Routine uses of records maintained in the system, including categories of users and the purposes of such uses:

Add: “To victims and witnesses of a crime for purposes of providing information, consistent with the requirements of the Victim and Witness Assistance Program, regarding the investigation and deposition of an offense.

Add: To Federal, state, and local agencies having jurisdiction over the substance of the allegations or a related investigative interest.”

* * * * *

Storage:

Delete entry and replace with “Paper records in file folders or electronic storage media”.

* * * * *

Retrievability:

Delete entry and replace with “By individual's name and/or Social Security Number (SSN).”

* * * * *

Safeguards:

Delete entry and replace with “Records are accessed by properly screened and cleared personnel with a need-to-know. Physical records are stored in a secured room. Electronic media is protected by system hardware and software. Access authentication is validated through use of Computer Access Cards (CACs), user name and password”.

* * * * *

Retention and disposal:

Delete entry and replace with “Records of unsubstantiated cases are retained in office files for two years after the year in which the case is closed. Substantiated case files are retained in office files until 10 years after the year in which case is closed. Physical records may be destroyed by shredding and/or burning. Electronic records are destroyed by erasing, deleting or overwriting.”

* * * * *

Notification procedure:

Delete entry and replace with “Individuals seeking to determine whether information about themselves is contained in this system of records should address written inquiries with signature to the Inspector General, Office of Secretary of the Air Force, 144 Air Force Pentagon, Washington, DC 20330-1140 or an Inspector General (IG) office at a local military installation.

The request must contain full name, complete return address and daytime contact telephone number.”

* * * * *

Record access procedures:

Delete entry and replace with “Individuals seeking access to information about themselves contained in this system of records should address written inquiries with signature to the Inspector General, Office of Secretary of the Air Force, 144 Air Force Pentagon, Washington, DC 20330-1140 or an IG office at a local military installation.

The request must contain full name, complete return address and daytime contact telephone number.”

* * * * *

Contesting record procedures:

Delete entry and replace with “Air Force rules for accessing records, contesting the contents, and appealing initial agency determinations are published in Air Force Instruction (AFI) 33-332; 32 Code of Federal Regulations (CFR), Part 806b. Procedures may also be obtained from the system manager.”

* * * * *

Record source categories:

Delete entry and replace with “Information is provided by the complainants, investigators, inspectors general, members of Congress, witnesses, and subjects of investigations.”

* * * * *

F090 AF IG B

System name:

Inspector General Records.

System location:

Office of the Inspector General, Office of the Secretary of the Air Force (SAF/IG), 1140 Air Force Pentagon, Washington, DC 20330-1140. Records are also located at the headquarters of major commands, headquarters of combatant commands for which Air Force is Executive Agent, and at all levels down to and including Air Force installations. Official mailing addresses are published as an appendix to the Air Force's compilation of record systems notices.

Categories of individuals covered by the system:

All persons (civilian, military, contractors, and/or members of the public) who have registered a complaint, allegation, or query with the Air Force Inspector General. Individuals who are or have been subjects of reviews, inquiries, or investigations.

Categories of records in the system:

Individual's name, Social Security Number (SSN), address, phone number, reports of investigations, statements of individuals, correspondence, and other information collected during investigation of and pertaining to complaints made to or investigated by the Air Force Inspector General.

Authority for maintenance of the system:

10 U.S.C. 8013, Secretary of the Air Force; 10 U.S.C. 8020, Inspector General, and E.O. 9397 (SSN).

Purpose(s):

Information is used to ensure just, thorough and timely resolution; to respond to complaints, allegations or queries; and to improve morale, welfare, and efficiency of organizations, units, and personnel by providing an outlet for redress. Records may indicate where commander involvement is needed to correct systemic, programmatic, or procedural weakness and ensures resources are used effectively and efficiently.

Routine uses of records maintained in the system, including categories of users and the purposes of such uses:

To victims and witnesses of a crime for purposes of providing information, consistent with the requirements of the Victim and Witness Assistance Program, regarding the investigation and deposition of an offense.

To Federal, state, and local agencies having jurisdiction over the substance of the allegations or a related investigative interest.

In addition to those disclosures generally permitted under 5 U.S.C. 552a(b) of the Privacy Act, these records or information contained therein may specifically be disclosed outside the DoD as a routine use pursuant to 5 U.S.C. 552a(b)(3) as follows: Provided to other Federal agencies under Official Use Request. These records are provided as an official need to know.

The DoD `Blanket Routine Uses' published at the beginning of the Air Force's compilation of record system notices applies to this system.

Policies and practices for storing, retrieving, accessing, retaining, and disposing of records in the system:

Storage:

Paper records in file folders or electronic storage media.

Retrievability:

By individual's name and/or Social Security Number.

Safeguards:

Records are accessed by properly screened and cleared personnel with a need-to-know. Physical records are stored in a secured room. Electronic media is protected by system hardware and software. Access authentication is validated through use of Computer Access Cards (CACs), user name and password.

Retention and disposal:

Records of unsubstantiated cases are retained in office files for two years after the year in which the case is closed. Substantiated case files are retained in office files until 10 years after the year in which case is closed. Physical records may be destroyed by shredding and/or burning. Electronic records are destroyed by erasing, deleting or overwriting.

System manager and address:

The Inspector General, Office of the Secretary of the Air Force (SAF/IG), 1140 Air Force Pentagon, Washington, DC 20330-1140.

Notification procedure:

Individuals seeking to determine whether information about themselves is contained in this system of records should address written inquiries to the Inspector General, Office of Secretary of the Air Force, 144 Air Force Pentagon, Washington, DC 20330-1140 or an IG office at a local military installation.

The request must contain full name, complete return address and daytime contact telephone number.

Record access procedures:

Individuals seeking access to information about themselves contained in this system of records should address written inquiries to the Inspector General, Office of Secretary of the Air Force, 144 Air Force Pentagon, Washington, DC 20330-1140 or an IG office at a local military installation.

The request must contain full name, complete return address and daytime contact telephone number.

Contesting record procedures:

Air Force rules for accessing records, contesting the contents, and appealing initial agency determinations are published in Air Force Instruction (AFI) 33-332; 32 Code of Federal Regulations (CFR), Part 806b. Procedures may also be obtained from the system manager.

Record source categories:

Information is provided by the complainants, investigators, inspectors general, members of Congress, witnesses, and subjects of investigations.

Exemptions claimed for the system:

Parts of this system may be exempt pursuant to 5 U.S.C. 552a(j)(2) if the information is compiled and maintained by a component of the agency, which performs as its principle function any activity pertaining to the enforcement of criminal laws.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information except to the extent that disclosure would reveal the identity of a confidential source. NOTE: When claimed, this exemption allows limited protection of investigative reports maintained in a system of records used in personnel or administrative actions.

An exemption rule for this record system has been promulgated in accordance with the requirements of 5 U.S.C. 553(b)(1), (2), and (3), (c) and (e) and published in 32 CFR part 806b. For additional information contact the system manager.

[FR Doc. E8-28584 Filed 12-1-08; 8:45 am]

BILLING CODE 5001-06-P